DEPARTMENT OF ENERGY

Federal Energy Regulatory Commission

[Docket No. EL18-7-000]

American Electric Power Service Corporation v. Midcontinent Independent System Operator, Inc.; Notice of Complaint

Take notice that on October 10, 2017, pursuant to section 206 of the Federal Power Act, 16 U.S.C. 824(e), and Rule 206 of the Federal Energy Regulatory Commission's (Commission) Rules of Practice and Procedure, 18 CFR 385.206, American Electric Power Service Corporation on behalf of its operating company affiliates that are transmission owners (TOs) in the PJM Interconnection, L.L.C. (PJM) (together AEP or Complainants) ¹ filed a formal complaint against Midcontinent Independent System Operator, Inc. (MISO or Respondent) alleging that MISO failed to provide AEP and other PJM TOs with more than $4.8 million of revenues from Seams Elimination Charge/Cost Adjustments/Assignments, a non-bypassable surcharge designed to recover all of the revenues lost due to the elimination of through and out rates on December 1, 2004 in the MISO/PJM region, all as more fully explained in the complaint.

¹ American Electric Power Service Corporation (AEPSC) is filing this Complaint on behalf of its following operating company affiliates: Appalachian Power Company, Indiana Michigan Power Company, Kentucky Power Company, Kingsport Power Company, Ohio Power Company, and Wheeling Power Company.

AEP certifies that copies of the complaint were served on the contacts for the Midcontinent Independent System Operator, Inc. as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 30, 2017.

Dated: October 11, 2017.
Nathaniel J. Davis, Sr.,
Deputy Secretary.

[FR Doc. 2017-22462 Filed 10-16-17; 8:45 am]

BILLING CODE 6717-01-P